DEPARTMENT OF VETERANS AFFAIRS

National Research Advisory Council, Notice of Meeting

The Department of Veterans Affairs (VA) gives notice under the Federal Advisory Committee Act, 5 U.S.C. App.2, that the National Research Advisory Council will hold a virtual meeting on Wednesday, December 2, 2020. The meeting will convene at 11:00 a.m. and end at 2:00 p.m. Eastern daylight time. The meeting is open to the public via WebEx link at: https://veteransaffairs.webex.com/veteransaffairs/j.php?MTID=m9d4cf10d0a787238c274c3ab5c31d07f. Members of the public may also join by phone: 1-404-397-1596. The meeting number (access code) is: 199 052 5720, Meeting password: tpYPK9QU?96. This meeting is open to the public.

The purpose of the National Research Advisory Council is to advise the Secretary on research conducted by the Veterans Health Administration, including policies and programs targeting the high priority of Veterans' health care needs.

On December 2, 2020, the agenda will include a discussion of the white paper describing concrete steps to address minority representation in research; a presentation by the Office of Research and Development workgroup on diversity and inclusion; a discussion by the subcommittee on alternative strategies for VA research; and a discussion of the Annual Report to the Council. No time will be allocated at this meeting for receiving oral presentations from the public. Members of the public wanting to attend, have questions or presentations to present may contact Dr. Marisue Cody, Designated Federal Officer, Office of Research and Development (14RD), Department of Veterans Affairs, 810 Vermont Avenue NW, Washington, DC 20420, at 202-443-5681, or at Marisue.Cody@va.gov no later than close of business on November 28, 2020. All questions and presentations will be presented during the public comment section of the meeting. Any member of the public seeking additional information should contact Dr. Cody at the above phone number or email address noted above.

Dated: October 16, 2020.
LaTonya L. Small,
Federal Advisory Committee Management Officer.

[FR Doc. 2020-23336 Filed 10-20-20; 8:45 am]

BILLING CODE P